FEDERAL MARITIME COMMISSION

Notice of Agreements Filed

The Commission hereby gives notice of the filing of the following agreement under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201354.

Agreement Name: CMA CGM/COSCO Jamaica—Puerto Rico Space Charter Agreement.

Parties: CMA CGM S.A. and COSCO SHIPPING Lines Co., Ltd.

Filing Party: Draughn Arbona, CMA CGM S.A.

Synopsis: This agreement authorizes CMA CGM to charter space to COSCO on certain vessels CMA CGM operates in the Trade from Jamaica to Puerto Rico.

Proposed Effective Date: 2/8/2021.

Location: https://www2.fmc.gov/FMC.Agreements.Web/Public/AgreementHistory/39505.

Dated: February 12, 2021.
Rachel E. Dickon,
Secretary.

[FR Doc. 2021-03245 Filed 2-17-21; 8:45 am]

BILLING CODE 6730-02-P